DEPARTMENT OF STATE

[Public Notice 7728]

Vantage Pipeline US LP; Notice of Intent To Prepare an Environmental Assessment and Request for Comments on Environmental Issues, and To Initiate Consultation Under Section 106 of the National Historic Preservation Act for the Proposed Vantage Pipeline Project

December 9, 2011.

The staff of the United States Department of State (DOS) will prepare an environmental assessment (EA) that will discuss the environmental impacts of the Vantage Pipeline Project involving construction, operation, and maintenance of facilities at the U.S.-Canada border by Vantage Pipeline US LP (Vantage) in Williams and Divide Counties, North Dakota. This EA will be used by the DOS in its decision-making process to determine whether the project would serve the national interest and be issued a Presidential Permit.

This notice announces the opening of the scoping process the DOS will use to gather input from the public and interested agencies on the project. Your input will help the DOS staff determine what issues need to be evaluated in the EA. Please note that the scoping period will close on January 17, 2011.

This notice is being sent to the DOS' current environmental mailing list for this project. State and local government representatives are asked to notify their constituents of this planned project and encourage them to comment on their areas of concern.

If you are a landowner receiving this notice, you may have already been or may be contacted by a pipeline company representative about the acquisition of an easement to construct, operate, and maintain the proposed facilities. The company would seek to negotiate a mutually acceptable agreement. However, if the project is approved by the DOS, that approval conveys with it the right of eminent domain. Therefore, if easement negotiations fail to produce an agreement, the pipeline company could initiate condemnation proceedings where compensation would be determined in accordance with state law.

Additionally, the DOS has determined that issuance of a Presidential Permit for the Vantage Pipeline Project triggers review under Section 106 of the National Historic Preservation Act and is consequently initiating the required consultation under that statute. Consultation will be conducted with State Historic Preservation Officers, Indian tribes, and the Advisory Council on Historic Preservation, and other consulting parties, as appropriate, to determine the locations (if any) of potential sites for inclusion on the National Register of Historic Places as well as the potential eligibility and findings of effect for cultural resources identified within the Vantage Pipeline Project Area of Potential Effect.

A fact sheet prepared by the Federal Energy Regulatory Commission (FERC) entitled “An Interstate Natural Gas Facility On My Land? What Do I Need To Know?” is available for your review on the DOS' Web site for the project (see the Additional Information section, below). Although the proposed Vantage project involves an ethane pipeline, many of the typically asked questions addressed in the fact sheet also apply to this project. It is also available for viewing on the FERC Web site (http://www.ferc.gov).

Summary of the Proposed Project

Vantage proposes to construct and operate 77.4 miles of 10-inch-diameter ethane ¹ pipeline in Williams and Divide Counties, North Dakota. The project would also include the installation of mainline valves at seven locations along the pipeline and the use of various ancillary facilities (e.g., access roads, yards). According to Applicant, the Vantage Pipeline Project would serve the national interest by providing the natural gas, oil, and ethane-producing Bakken Formation region of North Dakota with access to the existing ethane infrastructure and market associated with the Alberta Ethane Gathering System in Alberta. Currently no market exists for petrochemical grade (also known as “specification” or “pure grade”) ethane in North Dakota; however, the construction of the Vantage Pipeline will make it feasible to extract the ethane byproduct from North Dakota-produced natural gas and export it for use in the Canadian petrochemical industry. The Applicant contends that the pipeline will therefore enhance exports from the United States, allow U.S. natural gas producers to recognize benefits from an existing resource from which they are not presently recognizing any financial benefit, and will contribute to the national economy in terms of job creation and tax payments.

¹ According to the application, the ethane transported in the Vantage Pipeline is a flammable liquid that is non-corrosive, odorless, and colorless. It has similar characteristics to natural gas, the fuel that is used in furnaces to heat homes. Ethane is currently used as a feedstock by the Alberta petrochemical industry and is ultimately converted to plastics, anti-freeze, rubber, detergents, solvents, and like products.

The general location of the project facilities is at http://www.vantagepipeline.state.gov.

Land Requirements for Construction

Construction of the proposed facilities would disturb about 700 acres of land for the aboveground facilities and the pipeline. Following construction, about 280 acres would be maintained for permanent operation of the project's facilities; the remaining acreage would be restored and allowed to revert to former uses.

The EA Process

The National Environmental Policy Act (NEPA) requires the DOS take into account the environmental impacts that could result from the approval of a Presidential Permit authorizing construction, operation, and maintenance of pipeline facilities of natural gas liquids to be located at the international border of the United States and Canada. NEPA also requires the DOS to discover and address concerns the public may have about proposals. This process is referred to as “scoping.” The main goal of the scoping process is to focus the analysis in the EA on the important environmental issues. By this notice, the DOS requests public comments on the scope of the issues to address in the EA. All comments received will be considered during the preparation of the EA.

In the EA, the DOS will discuss impacts that could occur as a result of the construction and operation of the proposed project under these general headings:

• Geology and soils;

• Water resources and wetlands;

• Vegetation and wildlife (including endangered and threatened species);

• Land use, recreation, and visual resources;

• Socioeconomics;

• Cultural resources;

• Air quality and noise;

• Public safety; and

• Cumulative impacts.

The DOS will also evaluate reasonable alternatives to the proposed project or portions of the project, and make recommendations on how to lessen or avoid impacts on the various resource areas.

The DOS' independent analysis of the issues will be presented in the EA. The EA will be placed in the public record and, depending on the comments received during the scoping process, may be published and distributed to the public. A comment period will be allotted if the EA is published for review. The DOS will consider all comments on the EA before it issues a Presidential Permit. To ensure your comments are considered, please carefully follow the instructions in the Public Participation section.

With this notice, the DOS is asking agencies with jurisdiction and/or special expertise with respect to environmental issues to formally cooperate with DOS in the preparation of the EA. These agencies may choose to participate once they have evaluated the proposal relative to their responsibilities. Agencies that would like to request cooperating agency status should follow the instructions for filing comments provided under the Public Participation section of this notice.

During this scoping period, the DOS also plans to use the scoping process to help identify historic preservation issues for consideration under Section 106 of the National Historic Preservation Act and its implementing regulations (Title 36 Code of Federal Regulations Part 800).

Public Participation

You are encouraged to become involved in this process and provide your specific comments or concerns about the proposed project. By becoming a commenter, your concerns will be considered by the DOS and addressed appropriately in the EA. Your comments should focus on the potential environmental impacts, reasonable alternatives (including alternative facility sites and alternative pipeline routes), and measures to avoid or lessen environmental impacts. Parties interested in being involved in Section 106 consultation should also contact the DOS. The more specific your comments, the more useful they will be. To ensure that your comments are timely and properly recorded, please send your comments so they will be received on or before January 17, 2011.

For your convenience, there are two methods that you can use to submit your comments to the DOS. In all instances please reference the project (i.e., Vantage) with your submission. The DOS encourages electronic filing of comments.

(1) You may file a paper copy of your comments at the following address: Alexander Yuan, OES/ENV, NEPA Compliance Officer, P.O. Box 18500, Minneapolis, MN 55418, REFERENCE: VANTAGE; or

(2) You may email comments to AlexanderYuan@merjent.com.

Environmental Mailing List

The environmental mailing list includes Federal, state, and local government representatives and agencies; elected officials; environmental and public interest groups; Native American Tribes; other interested parties; and local libraries and newspapers. This list also includes all affected landowners who are potential right-of-way grantors, whose property may be used temporarily for project purposes, and anyone who submits comments on the project. The DOS will update the environmental mailing list as the analysis proceeds to ensure that it sends the information related to this environmental review to all individuals, organizations, and government entities interested in and/or potentially affected by the proposed project.

Additional Information

The application and related documents that are part of the record to be considered by the DOS in connection with this application, including environmental information and associated maps, are downloadable from a Web site that is being established for this purpose: http://www.vantagepipeline.state.gov.

A Vantage hosted project Web site is also available at http://www.vantagepipeline.com. The Vantage Pipeline Project toll free number is 1-(877) 918-6818 (United States).

Dated: December 7, 2011.
George N. Sibley,
Director, Office of Environmental Policy, Bureau of Oceans and International, Environmental and Scientific Affairs, U.S. Department of State.

[FR Doc. 2011-31964 Filed 12-12-11; 8:45 am]

BILLING CODE 4710-09-P